ENVIRONMENTAL PROTECTION AGENCY

[FRL-7154-3]

Agency Information Collection Activities: Collection; See List of ICRs To Be Submitted in Section A

AGENCY: Environmental Protection Agency (EPA).

ACTION: Notice.

SUMMARY: In compliance with the Paperwork Reduction Act (44 U.S.C. 3501 et seq.), this document announces that the following two current Information Collection Requests (ICR) have been forwarded to the Office of Management and Budget (OMB) for renewal: Best Management Practices (“BMP”), Effluent Limitations Guidelines and Standards, Pulp, Paper, and Paperboard Manufacturing Category (EPA ICR No. 1829.02), expiring on March 31, 2002, and Milestones Plan, Effluent Limitations Guidelines and Standards, Bleached Papergrade Kraft and Soda Subcategory, Pulp, Paper, and Paperboard Manufacturing Category (EPA ICR No. 1877.02), expiring on February 28, 2002. OMB approved the current BMP information collection on March 2, 1999, and approved the current Milestones Plan collection on January 13, 1999. The ICRs describe the nature of the information collection and their expected burden and cost.

DATES: Comments must be submitted on or before April 8, 2002.

ADDRESSES: Send comments, referencing EPA ICR No. 1829.02 and OMB Control No. 2040-0207, or EPA ICR No. 1877.02 and OMB Control No. 2040-0202 to the following addresses: Susan Auby, U.S. Environmental Protection Agency, Collection Strategies Division (Mail Code 2822), 1200 Pennsylvania Avenue, NW., Washington, FOR FURTHER INFORMATION: For a copy of the ICR contact Susan Auby at EPA at (202) 260-4901, by e-mail at auby.susan@epa.gov, or download off the Internet at http://www.epa.gov/icr and refer to EPA ICR No. 1829.02 and 1877.02. For technical information about the collections, contact Mr. Ahmar Siddiqui by telephone at (202) 260-1826, or by e-mail at siddiqui.ahmar@epa.gov.

SUPPLEMENTARY INFORMATION: In compliance with the Paperwork Reduction Act (44 U.S.C. 3501 et seq.), this notice announces that EPA is submitting the following two ICRs to the Office of Management and Budget (OMB) for renewal:

(1) Best Management Practices, Effluent Limitations Guidelines and Standards, Pulp, Paper, and Paperboard Manufacturing Category, EPA ICR No. 1829.02, OMB Control No. 2040-0207;

(2) Milestones Plan, Effluent Limitations Guidelines and Standards, Bleached Papergrade Kraft and Soda Subcategory, Pulp, Paper, and Paperboard Manufacturing Category, EPA ICR No. 1877.02, OMB Control No. 2040-0202.

(1) Title: Best Management Practices, Effluent Limitations Guidelines and Standards, Pulp, Paper, and Paperboard Manufacturing Category, EPA ICR No. 1829.02, OMB Control No. 2040-0207, Expires on 03/31/2002.

Abstract: EPA has established Best Management Practices (BMPs) provisions as part of final amendments to 40 CFR part 430, the Pulp, Paper and Paperboard Point Source Category promulgated on April 15, 1998 (see 63 FR 18504). These provisions, promulgated under the authorities of sections 304, 307, 308, 402, and 501 of the Clean Water Act, require that owners or operators of bleached papergrade kraft and soda mills and papergrade sulfite mills implement site-specific BMPs to prevent or otherwise contain leaks and spills of spent pulping liquors, soap and turpentine and to control intentional diversions of these materials (see 40 CFR 430.03).

EPA has determined that these BMPs are necessary because the materials controlled by these practices, if spilled or otherwise lost, can interfere with wastewater treatment operations and lead to increased discharges of toxic, nonconventional, and conventional pollutants. For further discussion of the need for BMPs, see section VI.B.7 of the preamble to the amendments to 40 CFR part 430 (see 63 FR 18561-18566).

The BMP program includes information collection requirements that are intended to help accomplish the overall purposes of the program by, for example, training personnel, see 40 CFR 430.03(c)(4), analyzing spills that occur, see 40 CFR 430.03(c)(5), identifying equipment items that might need to be upgraded or repaired, see 40 CFR 430.03(c)(2), and performing monitoring—including the operation of monitoring systems—to detect leaks, spills and intentional diversion and generally to evaluate the effectiveness of the BMPs, see 40 CFR 430.03(c)(3), (c)(10), (h), and (i). The regulations also require mills to develop and, when appropriate, amend plans specifying how the mills will implement the specified BMPs and to certify to the permitting or pretreatment authority that they have done so in accordance with good engineering practices and the requirements of the regulation (see 40 CFR 430.03(d), (e) and (f)). The purpose of those provisions is, respectively, to facilitate the implementation of BMPs on a site-specific basis and to help the regulating authorities to ensure compliance without requiring the submission of actual BMP plans. Finally, the recordkeeping provisions are intended to facilitate training, to signal the need for different or more vigorously implemented BMPs, and to facilitate compliance assessment (see 40 CFR 430.03(g)).

EPA has structured the regulation to provide maximum flexibility to the regulated community and to minimize administrative burdens on National Pollutant Discharge Elimination System (NPDES) permit and pretreatment control authorities that regulate bleached papergrade kraft and soda and papergrade sulfite mills. Although EPA does not anticipate that it will be necessary for mills to submit any confidential business information (CBI) or trade secrets as part of this ICR, all data claimed as CBI will be handled by EPA pursuant to 40 CFR part 2.

Comments to First Notice: EPA received no comments to the first notice of submission of this ICR to OMB.

Burden Statement: The annual public reporting and record keeping burden for this collection of information is estimated to average 468 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are those operations that chemically pulp wood fiber using kraft or soda methods to produce bleached papergrade pulp, paperboard, coarse paper, tissue paper, fine paper, and/or paperboard; those operations that chemically pulp wood fiber using papergrade sulfite methods to produce pulp and/or paper; and State and local governments which regulate areas where such operations are located.

Estimated Number of Respondents: 130.

Frequency of response: Periodic.

Estimated Total Annual Hour Burden: 60,909.

Estimated Total Annualized Capital, O&M Cost Burden: $0.

The recurring burden for a mill to periodically review and amend the BMP plan, prepare spill reports, perform additional monitoring, hold refresher training, and conduct recordkeeping and reporting is estimated to be 617, 641 and 665 hours annually per mill for simple, moderately complex, and complex mills, respectively. The total recurring cost for mills associated with the BMP requirements is estimated at $1,807,670.

The recurring burden to State NPDES and pretreatment control authorities is estimated at ten hours per year per facility for reviewing periodic (e.g., annual or semi-annual) monitoring reports and conducting compliance reviews. The total recurring costs for State NPDES and pretreatment control authorities is estimated at $32,100.

(2) Title: Milestones Plan, Effluent Limitations Guidelines and Standards, Bleached Papergrade Kraft and Soda Subcategory, Pulp, Paper, and Paperboard Manufacturing Category, EPA ICR No. 1877.02, OMB Control No. 2040-0202, Expires on 02/28/2002.

Abstract: EPA established the Milestones Plan requirements as an element of the Voluntary Advanced Technology Incentives Program (VATIP) codified at 40 CFR 430.24(b). The Milestone Plan requirements were promulgated as amendments to VATIP on July 7, 1999 (see 64 FR 36582) and are codified at 40 CFR 430.24(b)(3). The Milestones Plan provisions, promulgated under the authorities of sections 301, 304, 306, 308, 402, and 501 of the Clean Water Act, require owners or operators of bleached papergrade kraft and soda mills enrolled in the VATIP to submit information to describe each envisioned new technology component or process modification the mill intends to implement in order to achieve the VATIP Best Available Technology (BAT) limits, including a master schedule showing the sequence of implementing new technologies and process modifications and identifying critical-path relationships within the sequence.

EPA has determined that the Milestones Plan will provide valuable benchmarks for reasonable inquiries into progress being made by participating mills toward achieving interim and ultimate tier limits of the VATIP and will offer the necessary flexibility to the mill and the permit writer so that the milestones selected to be incorporated into the mill's NPDES permit reflect the unique situation of the mill.

The Milestones Plan must include the following information for each new individual technology or process modification: (1) A schedule of anticipated dates for associated construction, installation, and/or process changes; (2) the anticipated dates of completion for those steps; (3) the anticipated date that the Advanced Technology process or individual component will be fully operational; (4) and the anticipated reductions in effluent quantity and improvements in effluent quality as measured at the bleach plant (for bleach plant, pulping area and evaporator condensates flow and BAT parameters other than Adsorbable Organic Halides (AOX)) and the end of the pipe (for AOX) (see 40 CFR 430.24(c)(3)). For those technologies or process modifications that are not commercially available or demonstrated on a full-scale basis at the time of Plan development, the Plan must include a schedule for initiating and completing research (if necessary), process development, and mill trials (see 40 CFR 430.24(c)(3)(i)). The Plan must also include contingency plans in the event that any of the technologies or processes specified in the Milestones Plan need to be adjusted or alternative approaches developed to ensure that the ultimate tier limits are achieved by the deadlines specified in 40 CFR 430.24(b)(4)(ii) (see 40 CFR 430.24(c)(4)).

EPA has structured the Plan to provide maximum flexibility to the regulated community and to minimize administrative burdens on NPDES permit authorities that regulate bleached papergrade kraft and soda mills. All data claimed as CBI or trade secrets submitted by the mills as part of this ICR will be handled by EPA pursuant to 40 CFR part 2. Although EPA does not anticipate that it will be necessary for mills to submit any CBI or trade secrets as part of this ICR, if a mill claims all or part of the milestones plan as CBI, the mill must prepare and submit to the NPDES permitting authority a summary of the plan for public release (see 40 CFR 430.24(c)).

Comments to First Notice: EPA received no comments to the first notice of submission of this ICR to OMB.

Burden Statement: The annual public reporting and record keeping burden for this collection of information is estimated to average 120 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are those existing, direct discharging mills with operations that chemically pulp wood fiber using kraft or soda methods to produce bleached papergrade pulp, paperboard, coarse paper, tissue paper, fine paper, and/or paperboard and that choose to participate in the Voluntary Advanced Technology Incentives Program established under 40 CFR 430.24(b).

Estimated Number of Respondents: 29 mills.

Frequency of response: The burden for a mill (which chooses to participate voluntarily in the incentives program) to prepare and submit a Milestones Plan is estimated to average approximately 120 hours per respondent. This is a one-time burden. State NPDES permitting authorities burden to review the Milestones Plans is estimated at 16 hours per respondent as an initial burden with an average recurring annual review burden of 6 hours per respondent. There is no recurring burden for mill respondents associated with this information collection.

Estimated Total Annual Hour Burden: 1,418 hours.

Estimated Total Annualized Capital, O&M Cost Burden: $0.

Dated: February 26, 2002.
Oscar Morales,
Director, Collection Strategies Division.

[FR Doc. 02-5449 Filed 3-6-02; 8:45 am]

BILLING CODE 6560-50-P